DEPARTMENT OF COMMERCE

National Institute of Standards and Technology

[Docket Number 101025532-0532-01]

Draft Report on the Technical Study of the Sofa Super Store Fire—South Carolina, June 18, 2007.

AGENCY: National Institute of Standards and Technology (NIST), Department of Commerce.

ACTION: Notice; request for comments.

SUMMARY: The National Institute of Standards and Technology (NIST) seeks public comments on the draft report of its Technical Study of the Sofa Super Store Fire—South Carolina, which took place on June 18, 2007.

DATES: Comments must be received on or before 12 noon EST, December 2, 2010.

ADDRESSES: Comments may be submitted to NIST by e-mail at firesafety@nist.gov, by fax to 301-975-4647; or by mail to the attention of Nelson Bryner, National Institute of Standards and Technology, 100 Bureau Drive, Stop 8660, Gaithersburg, MD 20899-8660. The draft report is available at: http://www.nist.gov/el/investigations/bfrl-investigations.cfm

FOR FURTHER INFORMATION CONTACT: Requests for further information may be sent to firesafety@nist.gov, or by mail, Nelson Bryner, National Institute of Standards and Technology, 100 Bureau Drive, Stop 8660, Gaithersburg, MD 20899-8660, or by telephone at 301-975-6868.

SUPPLEMENTARY INFORMATION: Following a fire in Charleston, SC on June 18, 2007, NIST conducted a study to determine the likely technical causes of the rapid fire growth and spread. NIST recently completed a draft report of their technical study and the principal findings are summarized in this report. The report also describes NIST's simulation of the fire environment that affected the rapid fire growth, possible factors contributing to the fire development, and rapid fire spread sequence. The report concludes with eleven recommendations that involve modification, adoption, or enforcement of model building and fire codes and research for improving fire safety.

Authority: 15 U.S.C. 272 et seq.

Request for Comments: NIST seeks comments on the draft report of its Technical Study of the Sofa Super Store Fire—South Carolina, June 18, 2007. NIST will review comments received, make appropriate revisions, and publish the report in a final form following the public comment period.

Dated: November 12, 2010.
Harry S. Hertz,
Director, Baldrige Performance Excellence Program.

[FR Doc. 2010-29503 Filed 11-23-10; 8:45 am]

BILLING CODE 3510-13-P